DEPARTMENT OF HEALTH AND HUMAN SERVICES

Office of the Secretary

Hospital Preparedness Program (HPP)

AGENCY: Office of the Assistant Secretary for Preparedness and Response, HHS.

ACTION: Notice.

SUMMARY: This notice sets forth the Secretary's decision to require Hospital Preparedness Program [HPP] cooperative agreement recipients to contribute non-Federal matching funds starting with the FY 2009 funding cycle and each year thereafter. The amount of the cost sharing requirement in FY 2009 will be five percent of the award amount and in FY 2010 and each year thereafter the amount of match will be ten percent of the award amount.

FOR FURTHER INFORMATION CONTACT: Robert Dugas, Team Leader, Hospital Preparedness Program, 202-245-0732.

SUPPLEMENTARY INFORMATION: Authorized by section 319C-2 of the Public Health Service (PHS) Act, as amended by the Pandemic and All-Hazards Preparedness Act (PAHPA) (Pub. L. 109-417), the HPP is a cooperative agreement program funded and administered by the Assistant Secretary for Preparedness and Response (ASPR). Its purpose is to improve surge capacity and enhance community and hospital preparedness for public health emergencies. Currently there are 62 awardees comprised of the 50 States; the District of Columbia; the three metropolitan areas of New York City, Los Angeles County and Chicago; the Commonwealths of Puerto Rico and the Northern Mariana Islands; the territories of American Samoa, Guam and the U.S. Virgin Islands; the Federated States of Micronesia; and the Republics of Palau and the Marshall Islands.

Since the inception of the program in 2002, awardees have received funding through a statutory formula that employs a base allocation with an adjustment for population. PAHPA amended section 319C-1 and 319C-2 of the PHS Act to add certain accountability provisions.

Consistent with those accountability provisions, a notice appeared in the Federal Register on May 16, 2008, (73 FR 28471-72) soliciting public comments on a proposal to introduce a cost sharing requirement for the HPP program. Twenty-eight comments were received from hospitals, hospital associations, State Health Officials, and professional organizations. The comments received included concerns about finding the resources needed to cost share, additional administrative recordkeeping related to cost sharing, and overall decreased participation in the HPP. In response, HHS believes the concerns that were raised about awardees finding the resources needed to cost share, additional administrative recordkeeping, and a potential for decreased participation in the HPP are outweighed by the benefits a cost sharing requirement will bring to HPP. The cost sharing requirement will be a concrete way of solidifying collaboration between States and the Federal government in assuring this program will achieve enhanced sustainability in healthcare system preparedness during and after the project period has ended.

Thus, HPP cooperative agreement recipients will be required to contribute non-Federal matching funds starting with the FY 2009 funding cycle and each year thereafter. Awardees will be required to make available, either directly or through donations from public or private entities, non-Federal contributions in an amount equal to five percent of the award amount in FY 2009 and ten percent of the award amount in FY 2010 and each successive year for the duration of the program. Non-Federal contributions will be provided directly or through donations from public or private entities and may be in cash or in kind, fairly evaluated, including plant, equipment or services. Amounts provided by the Federal government, or services assisted or subsidized to any significant extent by the Federal government, may not be included in determining the amount of such non-Federal contributions.

The cost sharing requirement will apply to the entire award amount received by the awardee from the U.S. Department of Health and Human Services through the HPP.

The cost sharing requirement will be enforced as a term and condition of the HPP award.

Dated: May 8, 2009.
William C. Vanderwagen,
Assistant Secretary for Preparedness and Response, U.S. Department of Health and Human Services.

[FR Doc. E9-11307 Filed 5-14-09; 8:45 am]

BILLING CODE 4150-37-P